DEPARTMENT OF STATE

[Public Notice 6766]

Notice of Request for Public Comment and Submission to OMB of Proposed Collection of Information

Title: 30-Day Notice of Proposed Information Collection: DS-3013 and 3013-s, Application Under the Hague Convention on the Civil Aspects of International Child Abduction, OMB 1405-0076.

ACTION: Notice of request for public comment and submission to OMB of proposed collection of information.

SUMMARY: The Department of State has submitted the following information collection request to the Office of Management and Budget (OMB) for approval in accordance with the Paperwork Reduction Act of 1995.

• Title of Information Collection: Application Under the Hague Convention on the Civil Aspects of International Child Abduction.

• OMB Control Number: 1405-0076.

• Type of Request: Revision.

• Originating Office: CA/OCS/PRI.

• Form Number: DS-3013, 3013-s.

• Respondents: Person seeking return of, or access to, a child.

• Estimated Number of Respondents: 2,355.

• Estimated Number of Responses: 2,355.

• Average Hours per Response: 1 hour.

• Total Estimated Burden: 2,355.

• Frequency: On occasion.

• Obligation to Respond: Voluntary.

DATES: Submit comments to the Office of Management and Budget (OMB) for up to 30 days from September 21, 2009.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Derek A. Rivers, Bureau of Consular Affairs, Overseas Citizens Services (CA/OCS/PRI), U.S. Department of State, SA-29, 4th Floor, Washington, DC 20520, who may be reached on (202) 736-9082 or at ASKPRI@state.gov.

SUPPLEMENTARY INFORMATION: We are soliciting public comments to permit the Department to:

• Evaluate whether the proposed information collection is necessary to properly perform our functions;

• Evaluate the accuracy of our estimate of the burden of the proposed collection; including the validity of the methodology and assumptions used;

• Enhance the quality, utility, and clarity of the information to be collected;

• Minimize the reporting burden on those who are to respond.

Abstract of proposed collection: The Application Under the Hague Convention on the Civil Aspects of International Child Abduction (DS-3013 and DS 3013-s) is used by parents or legal guardians who are asking the State Department's assistance in seeking the return of, or access to, a child or children alleged to be wrongfully removed from, or retained outside of, the child's habitual residence and currently located in another country that is also party to the Hague Convention on the Civil Aspects of International Child Abduction. The application requests information regarding the identities of the applicant, the child or children, and the person alleged to have wrongfully removed or retained the child or children. In addition, the application requires that the applicant provide the circumstances of the alleged wrongful removal or retention, and the legal justification for the request for return or access. The State Department, as the U.S. Central Authority, uses this information to establish, if possible, the applicants' claims under the Convention; to advise applicants about available remedies under the Convention; and to provide the information necessary to the foreign Central Authority in its efforts to locate the child or children, and to facilitate return of or access to the child or children pursuant to the Convention.

Methodology: The completed form DS-3013 and DS 3013-s may be filled out electronically or manually and then submitted to the Office of Children's Issues by e-mail, mail, or fax.

Dated: August 4, 2009.
Mary Ellen Hickey,
Managing Director, Bureau of Consular Affairs, Department f State.

[FR Doc. E9-22638 Filed 9-18-09; 8:45 am]

BILLING CODE 4710-06-P